SMALL BUSINESS ADMINISTRATION

Revocation of License of Small Business Investment Company

Pursuant to the authority granted to the United States Small Business Administration by the Windup Order of the United States District Court for the District of Massachusetts, entered August 25, 2016, the United States Small Business Administration hereby revokes the license of New England Partners Capital, L.P., a Delaware Limited Partnership, to function as a small business investment company under the Small Business Investment Company License No. 01710368 issued to New England Partners Capital, L.P., on February 26, 1998 and said license is hereby declared null and void as of August 25, 2016.

United States Small Business Administration
Dated: August 22, 2018.
A. Joseph Shepard,
Associate Administrator, Office of Investment and Innovation.

[FR Doc. 2018-19136 Filed 8-31-18; 8:45 am]

BILLING CODE 8025-01-P